DEPARTMENT OF THE TREASURY

Office of Thrift Supervision

[AC-5: OTS Nos. H-3746 and 04232]

Globe Bancorp, Inc., Metairie, LA; Approval of Conversion Application

Notice is hereby given that on May 10, 2001, the Director, Examination Policy, Office of Thrift Supervision, or his designee, acting pursuant to delegated authority, approved the application of Globe Homestead Federal Savings Association, Metairie, Louisiana, to convert to the stock form of organization. Copies of the application are available for inspection at the Dissemination Branch, Office of Thrift Supervision, 1700 G Street, NW., Washington, DC 20552, and the Midwest Regional Office, Office of Thrift Supervision, 225 E. John Carpenter Freeway, Suite 500, Irving, Texas 75062-2326.

Dated: May 11, 2001.
By the Office of Thrift Supervision,
Nadine Y. Washington,
Corporate Secretary.

[FR Doc. 01-12264 Filed 5-15-01; 8:45 am]

BILLING CODE 6720-01-M